NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register on April 9, 2013, at 78 FR 21160, and no comments were received. NSF is forwarding the proposed submission to the Office of Management and Budget (OMB) for clearance simultaneously with the publication of this second notice. The full submission (including comments) may be found at: http://www.reginfo.gov/public/do/PRAMain.

Comments: Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street NW., Room 10235, Washington, DC 20503, and to Suzanne H. Plimpton, Reports Clearance Officer, National Science Foundation, 4201 Wilson Boulevard, Suite 1265, Arlington, Virginia 22230 or send email to splimpto@nsf.gov. Individuals who use a telecommunications device for the deaf (TDD) may call the Federal Information Relay Service (FIRS) at 1-800-877-8339, which is accessible 24 hours a day, 7 days a week, 365 days a year (including federal holidays).

DATES: Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: 2013 Microbusiness Innovation Science and Technology Survey.

OMB Number: 3145-NEW.

Type of Request: Intent to seek approval to establish an information collection.

Overview of This Information Collection

The National Center for Science and Engineering Statistics (NCSES) of the National Science Foundation (NSF) plans to conduct a pilot of the new Microbusiness Innovation Science & Technology (MIST) Survey. MIST will collect R&D and other innovation-related data from small, independent U.S. microbusinesses with fewer than five employees. In addition to general information—primary business activity, year business was formed, and number of employees—this survey will collect the following:

• Business data on R&D activity and funding,

• number of employees and R&D employees,

• sales of goods and services,

• operating agreements and licensing activities with universities, other businesses, and government agencies (federal, state, and local),

• experience with several forms of technology transfer,

• use and importance of patents and other forms of intellectual property,

• sources of technical knowledge, and

• demographic and entrepreneurial characteristics of the business owner.

Background

NCSES is broadly tasked with measuring the role of science and technology (S&T) in the United States' economy and abroad. A major component of this activity is its sponsorship of the Business Research and Development (R&D) Innovation Survey (BRDIS), which collects information annually on research and development and related activities performed within the United States by industrial firms. In 2004 the National Academy of Sciences' Committee on National Statistics (CNSTAT) reviewed NSF's portfolio of R&D surveys and recommended that NSF explore ways to measure firm innovation and investigate the incidence of R&D activities in growing sectors, such as small business enterprises, not currently covered by BRDIS. BRDIS collects information annually on research and development and related activities performed within the United States by industrial firms. However, businesses with fewer than five employees are excluded from this survey. MIST will fill that void.

Respondents: Establishments (Typically owners or senior level managers of microbusinesses).

Number of Respondents: 3,200.

Burden on the Public: 1,600 total hours (30 minutes per respondent).

Dated: February 7, 2014.
Suzanne H. Plimpton,
Reports Clearance Officer, National Science Foundation.

[FR Doc. 2014-03049 Filed 2-11-14; 8:45 am]

BILLING CODE 7555-01-P